DEPARTMENT OF LABOR

Veterans' Employment and Training Service

Solicitation for Grant Applications for Veterans' Workforce Investment Program Grants for Program Year 2004

Announcement Type: Initial Announcement.

Funding Opportunity Number: #04-11.

Catalog of Federal Domestic Assistance (CFDA) Number: 17.802.

Key Dates: Applications are to be submitted by no later than November 1, 2004.

Delivery Address: U.S. Department of Labor, Procurement Services Center, Attention: Cassandra Mitchell, Reference SGA #04-11, Room N5416, 200 Constitution Ave., NW., Washington, DC 20210.

Executive Summary: The U.S. Department of Labor (DOL), Veterans' Employment and Training Service (VETS) announces a competition for the balance of the Veterans' Workforce Investment Program (VWIP) grant funds for Program Year (PY) 2004, as authorized under Section 168 of the Workforce Investment Act (WIA) of 1998. This Solicitation for Grant Applications (SGA) notice contains all of the necessary information and forms needed to apply for grant funding. Selected programs will assist eligible veterans by providing employment, training, support services, credentialing, networking information, and/or other assistance. Under this SGA, VETS anticipates that up to $3,800,000 in PY 2004 funds will be available for grant awards. The awards will be in the form of 6-month grants. It is anticipated that funds will be made available under this solicitation beginning January 1, 2005, and must be obligated no later than June 30, 2005. The VWIP programs are designed to be flexible in addressing the universal as well as local or regional problems that may have had a negative impact on veterans as they adapt to the competitive challenges of the 21st Century workforce. VETS, through this SGA, is seeking applications that take one of two approaches—either providing direct services to veterans that result in jobs and job training or credentialing opportunities, or providing outreach and public information activities that result in jobs and job training or credentialing opportunities for veterans.

I. Funding Opportunity Description

Section 168 of the Workforce Investment Act of 1998 (WIA) amended the training programs made available to veterans. See Sec. 168, Pub. L. 105-220, 112 Stat. 1027 (29 U.S.C. 2913). Section 168 authorizes the Department of Labor to make grants to meet the needs for workforce investment activities of veterans with service-connected disabilities, veterans who have significant barriers to employment, veterans who served on active duty in the armed forces during a war or in a campaign or expedition for which a campaign badge has been authorized, and recently separated veterans within 48 months of discharge. Priority of service for veterans in Department of Labor training programs is established in Chapter 42, Section 4215 of Title 38 U.S.C.

The Department of Labor is authorized to make grants to public agencies and private non-profit organizations (including faith-based and community-based organizations) that are determined to have an understanding of the unemployment problems of veterans, familiarity with the area to be served, and the capability to administer a program of workforce investment activities for such veterans effectively.

The VWIP grants under Section 168 of the WIA of 1998 are intended to address one or more of the following three objectives:

• To provide the One-Stop Career Center system with new and creative service delivery strategies that address the complex employment problems facing veterans.

• To provide services to assist in integrating veterans into meaningful employment within the labor force; and/or

• To provide outreach efforts such as communication strategies or conferences designed to address systemic problems with diverse agencies sharing information or to sponsor conferences designed to bring systemic change in skills development recognition that are barriers to veterans entering the workforce.

This SGA seeks to fund programs that are flexible, creative, innovative, and non-duplicative in addressing local or regional problems that have kept veterans from the workforce. Of particular interest are those addressing barriers created by non-recognition of military training relevant to high growth industries where a license or certification is involved and programs addressing the improvement of employment and retention of veterans.

The project design may provide for one of the following two options:

1. Employment and training services such as basic skills instruction, training necessary to fill gaps in academic or experiential requirements necessary for a license or professional certification, remedial education activities, job search activities including job search workshops, job counseling, job preparatory training including résumé writing and interviewing skills, subsidized trial employment, on-the-job training, classroom training, placement follow-up services, and other services provided under WIA. These services should focus on emerging high growth industries and target occupations where documented shortages exist. Some examples might include health care professions, information technology, biotechnology, advanced manufacturing, financial services, or other occupations where a license or certification is either required or desirable.

2. Outreach activities such as local or regional newsletters or other communications devices that convey important information to all entities involved in providing employment and training services to veterans, or regional or national conferences. For example, conferences might bring together interested parties from within and outside the public workforce investment system in order to share important information on strategies for removing credentialing barriers facing veterans with viable but unrecognized skills or to develop plans with a specified employer base for using veterans to fill existing job openings where a license or certification is required. Proposals focused on outreach activities must show how the activity to be undertaken will materially and positively affect the employment status of veterans in the geographic area where the activity is to occur. The positive effect should be measurable in terms of veterans placed and retained in careers where a license or certification is either required or desirable.

No model is mandatory but the applicant must design a program that meets the needs of the changing workforce, is unique, creative, innovative and non-duplicative, and will carry out the objectives of the program to successfully integrate eligible veterans into the workforce. Under the Government Performance and Results Act, Pub. L. 103-62, 107 Stat. 285 (31 U.S.C. 1101 et seq.), Congress and the public are looking for program results rather than program processes.

If the grantee contemplates training and placement activity, coordination with the Disabled Veterans Outreach Program (DVOP) and Local Veterans' Employment Representatives (LVER) staff at the One-Stop Career Center office in their jurisdiction is required. DVOP and LVER staff members are an integral part of the One-Stop Career Centers. Additionally, wherever possible, DVOP and LVER staff should be utilized for job development and placement activities for veterans who are ready to enter employment and/or who are in need of intensive case management services. Many of these staff members have received training in case management at the National Veterans Training Institute and have a priority of focus on assisting those veterans most at a disadvantage in the labor market. VETS urges working hand-in-hand with DVOP/LVER staff to achieve economies of resources.

II. Award Information

Awards will be made in the form of six-month grants. The total amount of funds available for this solicitation is $3,800,000. Awards are expected to range from $75,000 to a maximum of $375,000. The Department of Labor reserves the right to negotiate the amounts to be awarded under this competition. Requests exceeding $375,000 will be considered non-responsive.

The period of performance will be for six (6) months beginning January 1, 2005, unless modified by the Grant Officer. It is expected that successful applicants will commence program operations under this solicitation no later than thirty (30) days after funds become available.

All program funds must be obligated within six (6) months of the grant award, but no later than June 30, 2005. In addition, funds may be obligated for limited activities after that date including participant follow-up activities and grant closeout.

Successful awardees may be considered for funding for an additional twelve-month program year, if performance for the first quarter of the initial grant period is deemed satisfactory by USDOL VETS. Grant modifications for this additional twelve-month program year are also subject to the availability of congressional appropriated funds. Further, no additional funding will be considered beyond June 30, 2006 under this grant award.

III. Eligibility Information

1. Eligible Applicants. Under Section 168(a)(2) of the Workforce Investment Act, grants may be made to public agencies and private non-profit organizations (including community based organizations, faith-based organizations and those covered by Executive Orders 13256 and 13270; see http://www.whitehouse.gov/search) that DOL determines have familiarity with the area and population to be served and can administer an effective program. Eligible applicants will fall into one of the following categories:

• State and Local Workforce Investment Boards established under Sections 111 and 117 of the Workforce Investment Act.

• States and State agencies. A State agency may propose in its application to serve one or more of the political subdivisions in its State. As noted below, this does not preclude a city or county agency from submitting an application to serve its own jurisdiction.

• Local public agencies, meaning any public agency of a general purpose political subdivision of a State that has the power to levy taxes and spend funds, as well as general corporate and police powers. (This typically refers to cities and counties.)

• Private non-profit organizations, including faith-based and community organizations, that have a capacity to manage grants and have or will provide the necessary linkages with other service providers. Note that entities organized under Section 501(c)(4) of the Internal Revenue Code that engage in lobbying activities are not eligible to receive funds under this announcement. Section 18 of the Lobbying Disclosure Act of 1995, Pub. L. 104-65, 109 Stat. 691 (2 U.S.C. 1611) prohibits instituting an award, grant, or loan of Federal funds to 501 (c)(4) entities that engage in lobbying.

Applicants for VWIP must satisfy a “responsibility review” that demonstrates an ability to administer Federal funds. See 20 CFR 667.170.

In accordance with 29 CFR Part 98, entities that are debarred or suspended shall be excluded from Federal financial assistance and are ineligible to receive a VWIP grant.

2. Cost Sharing or Matching. Although VETS encourages applicants to use cost sharing and matching funds, Veterans Workforce Investment Grants do not require grantees to share costs or provide matching funds. However, up to ten (10) additional scoring points may be added to the review panel score, if significant matching funds are made available to the grant. (See Section V (1) below).

3. Other Eligibility Criteria. To be eligible for participation in a training program administered under VWIP, an individual must be a veteran who falls within one of the following categories: “* * * veterans with service-connected disabilities, veterans who have significant barriers to employment, veterans who served on active duty in the armed forces during a war or in a campaign or expedition for which a campaign badge has been authorized, and recently separated veterans [those within 48 months of discharge].” See Section 168 (a)(1) of the Workforce Investment Act.

IV. Application and Submission Information

1. Address to Request Application Package: This SGA, together with its attachments, includes all information needed to apply. Additional application packages may be obtained from the VETS Web site at http://www.dol.gov/vets, at http://www.fedgrants.gov, and from the Federal Register, which may be obtained from your nearest government office or library. If additional copies of the standard forms are needed, they can be downloaded from http://www.whitehouse.gov/omb/grants/grants_forms.html. Additional copies of this announcement or accompanying forms will not be mailed by DOL.

To receive any amendments to this solicitation (please reference SGA 04-11), all applicants must register their name and address in writing with the Grant Officer at the following address: U.S. Department of Labor, Procurement Services Center, Room N-5416, 200 Constitution Ave., NW., Washington, DC 20210.

2. Content and Form of Application: The grant application must not exceed a total of 75 one-sided pages, including attachments and exhibits and must consist of three (3) separate and distinct sections: the Executive Summary, the Technical Proposal, and the Cost Proposal. The information provided in these three (3) sections is essential to gain an understanding of the programmatic and fiscal contents of the grant proposal. A complete grant application package must include:

• An original blue ink-signed and two (2) copies of the cover letter.

• An original and two (2) copies of the Executive Summary (see below).

• An original and two (2) copies of the Technical Proposal (see below) that includes a completed Technical Performance Goals Form (Appendix D).

• An original and two (2) copies of the Cost Proposal (see below) that includes an original blue ink-signed Application for Federal Assistance, SF-424 (Appendix A), a Budget Narrative, Budget Information Sheet SF-424A (Appendix B), an original blue ink-signed and Assurances and Certifications Signature Page (Appendix C), a Direct Cost Description for Applicants and Sub-applicants (Appendix E), and a completed Survey on Ensuring Equal Opportunity for Applicants (Appendix F).

SECTION 1—The Executive Summary consists of a one to two page “Executive Summary” reflecting the grantee's proposed overall strategy, timeline, and outcomes to be achieved. The executive summary should include:

• The proposed area to be served through the activities of this grant.

• The grantee's experience in serving the residents in the proposed service area.

• Proposed projects and activities that will expedite the reintegration of veterans into the workforce.

• Summary of anticipated outcomes, benefits, and value added by the project.

SECTION 2—The Technical Proposal consists of a narrative proposal that demonstrates: the need for this particular grant program; the services and activities proposed to obtain successful outcomes for the veterans to be served; and the applicant's capability to accomplish the expected outcomes of the proposed project design. Applicants must be responsive to the Rating Criteria contained in Section V (1) and address all of the rating factors as thoroughly as possible in the narrative.

The technical proposal narrative must not exceed fifteen (15) pages (not including forms, appendices, executive summary or other documentation) double-spaced, font size no less than 11 pt., and typewritten on one side of the paper only. The applicant also must complete the forms, i.e., the Technical Performance Goals chart provided in the SGA, or some other matrix designed to show performance goals (see Appendix D).

In order to facilitate the review process, the following format for the technical proposal is strongly recommended:

• Need for the program. The applicant must: identify the geographic area to be served; estimate the number of eligible veterans and their needs; indicate poverty and unemployment rates in the area; and identify the gaps in the local community infrastructure that contribute to the employment and other barriers faced by the targeted veterans including regulations or other restrictions on the recognition of relevant military training by civilian licensing or certification authorities. Include Labor Market Information (LMI) on the outlook for job opportunities in the service area. If the applications proposes outreach activities, the need for communications strategies such as Web sites, newsletters, or conferences must be fully explained.

• Approach or strategy to obtain successful outcomes for veterans. The applicant must identify which of the two approaches it proposes to take to produce positive outcomes for veterans—direct services, or outreach and public information activities. This section of the proposal should discuss how direct services to veterans will meet the needs of eligible veterans, or how the outreach effort will implement the communications strategies described in the “need for the program” section. Regardless of which approach is proposed, this section should include identification of how the applicant's proposed approach or strategy will increase and/or solidify cooperation, coordination, and sharing of information between agencies in the community, the region, and/or in the nation.

• Applicant's capabilities. The applicant must provide evidence that it has the capability and knowledge to accomplish the goals in the application.

SECTION 3—The Cost Proposal consists of a completed Standard Form (SF) 424 “Application for Federal Assistance”, SF 424A “Budget Information Sheet”, a detailed cost breakdown of each line item on the SF 424A, and supporting materials. Copies of all required forms, with instructions for completion, are included as appendices to this SGA. Applicants can expect that the cost proposal will be reviewed for allowability, how the money is allocated, and reasonableness of placement and enrollment costs. DOL reserves the right to have a VETS representative review and verify applicant data. The cost proposal must include the following items:

(i) The Standard Form (SF) 424, “Application for Federal Assistance” (original signed in blue-ink). Please note that, beginning October 1, 2003, all applicants for Federal grant and funding opportunities are required to include a Dun and Bradstreet (DUNS) number with their application. See OMB Notice of Final Policy Issuance, 68 FR 38402 (June 27, 2003). The DUNS number is a nine-digit identification number that uniquely identifies business entities. There is no charge for obtaining a DUNS number (although it may take 14-30 days). To obtain a DUNS number, access the following Web site: http://www.dunandbradstreet.com or call 1-866-705-5711. Requests for exemption from the DUNS number requirement must be made to OMB. The Dun and Bradstreet Number of the applicant should be entered in the “Organizational Unit” section of block 5 of SF 424.

The Catalog of Federal Domestic Assistance number for this program is 17.802 and it must be entered on the SF 424, Block 10.

(ii) Standard Form (SF) 424A “Budget Information Sheet” in Appendix B.

(iii) A detailed cost breakout of each line item on the Budget Information Sheet, which should be labeled as “Budget Narrative.” Please ensure that costs reported on the SF 424A correspond accurately with the Budget Narrative. The budget narrative must include the following information at a minimum:

• A breakout of all personnel costs by position, title, salary rates, and percent of time of each position to be devoted to the proposed project (including sub-awardees);

• An explanation and breakout of extraordinary fringe benefit rates and associated charges (i.e., rates exceeding 35% of salaries and wages);

• An explanation of the purpose and composition of, and method used to derive the costs of, each of the following: travel, equipment, supplies, sub-awards/contracts, and any other costs. The applicant must include costs of any required travel described in this solicitation. Mileage charges may not exceed 37.5 cents per mile or the current federally approved rate;

• A description/specification of and justification for equipment purchases, if any. Tangible, non-expendable personal property having a useful life of more than one year and a unit acquisition cost of $5,000 or more per unit must be specifically identified and approved by the Grant Officer.

• Matching funds, leveraged funds, and in-kind services are not required for VWIP grants. However, if matching funds, leveraged funds or in-kind services are to be used, an identification of all sources of leveraged or matching funds and an explanation of the derivation of the value of matching/in-kind services must be provided. When resources such as matching funds, leveraged funds and/or the value of in-kind contributions are made available, please show in Section B of the Budget Information Sheet.

(iv) Assurance and Certification signature page, Appendix C.

(v) All applicants must submit evidence of satisfactory financial management capability, which must include recent (within 18 months) financial and/or audit statements.

(vi) All applicants must include, as a separate appendix, a list of all employment and training grants and contracts that it has had in the past three (3) years, including grant/contract officer contact information.

(vii) Documentation of indirect cost rates, as described in Section IV (5) below.

(viii) Direct Cost Descriptions for Applicants and Sub-Applicants (see Appendix E.)

(ix) Survey on Ensuring Equal Opportunity for Applicants (seeAppendix F.)

3. Submission Dates and Times: The grant application package must be received at the designated location by the date and time specified or it will not be considered. Any application received at the Office of Procurement Services after 4:45 p.m. ET, November 1, 2004, will not be considered unless it is received before an award is made and:

• It is determined by the Government that the late receipt was due solely to mishandling by the Government after receipt at the U.S. Department of Labor at the address indicated; and/or

• It was sent by registered or certified mail not later than the fifth calendar day before the closing date of this announcement; or

• It was sent by U.S. Postal Service Express Mail Next Day Service-Post Office to Addressee, not later than 5 p.m. at the location of mailing two (2) working days, excluding weekends and Federal holidays, prior to the closing date of this announcement.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail Next Day Service-Post Office to Addressee is the date entered by the Post Office clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence of receipt maintained by that office.

Applications sent by other delivery services, such as Federal Express, UPS, etc., will also be accepted.

All applicants are advised that U.S. mail delivery in the Washington, DC area has been erratic due to security. All applicants must take this into consideration when preparing to meet the application deadline, as you assume the risk for ensuring a timely submission.

4. Intergovernmental Review: This funding opportunity is not subject to Executive Order 12372, “Intergovernmental Review of Federal Programs” [see SF 424, Block #16].

5. Funding Restrictions: Rules relating to allowable costs are addressed in 20 CFR 667.200 through 667.220. Under 20 CFR 667.210(b), limits on administrative costs will be negotiated with the grantee and identified in the grant award documents. Construction costs (as opposed to maintenance and/or repair costs) are generally not allowed under WIA. While there are no specific limits on indirect costs, the amount of indirect cost charged to the grant is subject to the overall limitation on administrative costs as negotiated in the grant agreement.

Indirect costs claimed by the applicant must be based on a Federally approved rate. If indirect costs are indicated in the grant application, a copy of the approved and signed indirect cost negotiation agreement must be submitted with the application. If the applicant does not presently have an approved indirect cost rate, a proposed rate with justification may be submitted. Successful applicants will be required to negotiate an acceptable and allowable rate with the appropriate DOL Regional Office of Cost Determination or cognizant agency within 90 days of grant award. (See http://www.dol.gov/oasam/programs/boc/append5.htm.) Rates that can be tracked through the State Workforce Agency's Cost Accounting System represent an acceptable means of allocating costs to DOL and, therefore, can be approved for use in grants to State Workforce Agencies.

6. Other Submission Requirements: As detailed in Section IV (2) above, applications may be submitted by registered or certified mail, U.S. Postal Service Express Mail Next Day Service-Post Office to Addressee, U.S. Postal Service First Class Mail, other delivery services (UPS, FEDEX, etc.), or hand delivery. Applications will not be accepted by e-mail or facsimile machine.

V. Application Review Information

1. Panel Review Criteria

Applications will be reviewed based upon the following criteria, up to a maximum of 110 points:

A. Need for the Project: 30 points

Applications will be scored on the documented extent of need for this project, as demonstrated by: (i) The potential number or concentration of veterans in the proposed project area relative to other similar areas; (ii) the high rates of poverty and/or unemployment in the proposed project area as determined by the census or other surveys; (iii) the extent of gaps in the local infrastructure that create employment barriers that hinder the target population; (iv) the number of service members separating from the armed forces at local military bases; (v) problems with coordination between service providers; and (vi) identification of credentialing barriers that need to be addressed.

B. Overall Strategy To Enhance Services Provided to Veterans, To Initiate Actions To Provide Employment and Training Services for Veterans Not Otherwise Served, or To Provide Outreach and Public Information Activities To Develop and Promote Maximum Job and Job Training Opportunities for Eligible Veterans: 40 points

The application must include a description of the proposed approach to address one of the permissible—strategies, either providing direct services to veterans that result in job and job training or credentialing opportunities, or providing outreach and public information activities that result in job and job training or credentialing opportunities for veterans. Applicants should demonstrate how the activities will be tailored or will be responsive to the needs of veterans and the local employers seeking to hire veterans.

All applications will be scored on the extent to which they demonstrate the following:

(i) Is the project Unique—Has any other service provider tried the same approach?

(ii) Is the project Creative—What will this project do that other projects won't do or haven't done?

(iii) Is the project Innovative—Will the project equip veterans to adapt to the competitive challenges of the 21st Century workforce?

(iv) As part of an outreach or service proposal, is the project integrated and coordinated with other job training and employment programs in order to maximize resources and minimize duplication of effort and will it provide appropriate awareness, information sharing, and orientation activities on veterans and their needs to the following: Federal, State, and local entitlement services such as the Social Security Administration (SSA), Department of Veterans Affairs (DVA), State Workforce Agencies (SWAs) and their local job service offices or one-stop career centers, including service programs such as Disabled Veterans' Outreach Program (DVOP) and Local Veterans' Employment Representatives (LVER) staff (which integrate WIA, labor exchange, and other employment and social services), etc.; civic and private groups and especially Veterans' Service Organizations such as The American Legion, Disabled American Veterans, Veterans of Foreign Wars, and American Veterans (AMVETS); Family Service Centers on local military bases and local managers of Transition Assistance Program classes (this might be accomplished by the publication of an assistance guide or other periodical with information about these services); and faith-based and community-based organizations?

(v) Additionally, where the project design focuses on improved coordination/cooperation, community outreach, conferences and public information, has the narrative described a comprehensive plan for meeting the challenges and solving the problems associated with getting disparate groups talking to each other and/or getting relevant information to eligible veterans in a cogent, logical, and efficient manner on a regular basis?

C. Demonstrated Capability in Providing Required Program Services: 30 points

The applicant must describe its relevant prior experience in either operating a public information or community outreach effort or operating employment and training programs and providing services to participants targeted by this solicitation or participants similar to those which are targeted under this solicitation. Specific outcomes of the applicant's prior experience must be described, including percentage of enrolled participants placed into employment and cost per entered employment or, in the case of outreach activities, number of relevant parties reached or conference attendees.

The applicant must also address its ability to provide a timely startup of the program. The applicant should delineate its staff capability to manage the programmatic and financial aspects of a grant program. Note that a recent (within the last 18 months) financial statement or audit must be submitted as part of the cost proposal (see Section IV (2) above. Final or most recent technical performance VWIP reports or other relevant programs serving the targeted population (or a similar population) must be submitted. Because prior VWIP grant experience is not a requirement to receiving funding under this SGA, some applicants may not have any VWIP technical reports to submit.

D. Matching or Leveraged Funds: 10 Points

The applicant must describe the type, amount, and source of matching or leveraged funds that will be available, if a grant is awarded.

2. Review and Selection Process

The Grant Officer, with the assistance of VETS staff, will conduct an initial screening to determine responsiveness, timeliness, completeness, and eligibility of the applicant. Following the initial screening, the review panel using the point scoring system specified above in Section V(1) will review those applications determined to have satisfied the initial screening. Applications will be ranked based on the score assigned by the panel after careful evaluation by each panel member. The ranking will be the primary basis to identify applicants as potential grantees. Although the Government reserves the right to award on the basis of the initial proposal submissions, the Government may establish a competitive range, based upon the proposal evaluation, for the purpose of selecting qualified applicants. The panel's conclusions are advisory in nature and not binding on the Grant Officer. The Government reserves the right to ask for clarification from applicants, but is not obligated to do so. The Government further reserves the right to select applicants out of rank order if such a selection would, in its opinion, result in the most effective and appropriate combination of funding, program and administrative costs e.g., cost per enrollment and placement and geographic service areas. While points will not be awarded for cost issues other than matching or leveraged funds, cost per entered employment will be given serious consideration in the selection of awardees. The Grant Officer's determination for award under SGA 04-11 is the final agency action. The submission of the same proposal from any prior year VWIP and/or USDOL VETS competition does not guarantee an award under this solicitation.

VI. Award Administration

1. Award Notices

The Grant Officer will notify successful applicants of their awards. The notification letter will contain instructions on when performance under the terms of the award may begin. No activity associated with a grant application is authorized prior to official notification of an award by the Grant Officer. Before the actual grant award, the Grant Officer, in consultation with VETS staff, may enter into negotiations concerning such items as program components, funding levels, and administrative systems. If the negotiations do not result in an acceptable submittal, the Grant Officer reserves the right to terminate the negotiation and decline to fund the proposal. The Grant Officer will notify unsuccessful applicants of their appeal rights by mail.

2. Administrative and National Policy Requirements

Grantees must comply with the provisions of WIA and its regulations, as applicable. All successful grantees will also be subject to the following administrative standards and provisions, if applicable to the particular grantees:

• 20 CFR Part 667—Administrative provisions for programs including VWIP, under Title I of WIA.

• 29 CFR Part 2, Subpart D—Equal Treatment in Department of Labor Programs for Religious Organizations; Protection of Religious Liberty of Department of Labor Social Service Providers and Beneficiaries.

• 29 CFR Parts 30, 31, 32, 33, 35, 36, and 37—Equal Employment Opportunity in Apprenticeship and Training; Nondiscrimination in Federally Assisted Programs of the Department of Labor, Effectuation of Title VI of the Civil Rights Act of 1964; Nondiscrimination on the Basis of Handicap in Programs and Activities; Nondiscrimination on the basis of Age in Programs or Activities Receiving Federal Financial Assistance from the Department of Labor; Non discrimination on the Basis of Sex in Education Programs Receiving Federal Financial Assistance; and Implementation of the Nondiscrimination and Equal Opportunity Provisions of the Workforce Investment Act of 1988.

• 29 CFR Part 93—Lobbying.

• 29 CFR Part 95—Uniform Administrative Requirements for Grants and Agreements with Institutions of Higher Education, Hospitals, and Other Non-profit Organizations, and with Commercial Organizations.

• 29 CFR Part 96—Federal Standards for Audit of Federally Funded Grants, Contracts and Agreements.

• 29 CFR Part 97—Uniform Administrative Requirements for Grants and Cooperative Agreements to State and local governments.

• 29 CFR Part 98—Federal Standards for Government-wide Debarment and Suspension (Non-procurement) and Government-wide Requirements for Drug-Free Workplace (Grants).

• 29 CFR Part 99—Audit of States, Local Governments, and Non-profit Organizations.

• In accordance with WIA Section 195(6), programs funded under this SGA may not involve political activities. Additionally, in accordance with Section 18 of the Lobbying Disclosure Act of 1995, Public Law 104-65 (2 U.S.C. 1611), non profit entities incorporated under 501(c)(4) that engage in lobbying activities are not eligible to receive Federal funds and grants.

• Requirements for priority of service for veterans in Department of Labor training programs are identified in 38 U.S.C. 4215.

3. Reporting

Successful grant award recipients will submit the reports and documents listed below:

A. Quarterly Financial Reports

No later than 30 days after the end of each Federal fiscal quarter (i.e., for this grant period, reports are due April 30 and July 30), the grantee must report outlays, program income, and other financial information on a Federal fiscal quarterly basis using SF-269A, Financial Status Report, Short Form, and submit a copy of the HHS/PMS 272 draw down report. These reports must cite the assigned grant number and be submitted to the appropriate State Director for Veterans' Employment and Training (DVET).

B. Quarterly Program Reports

No later than 30 days after the end of each Federal fiscal quarter, grantees also must submit a Quarterly Technical Performance Report to the DVET that contains the following:

(1) A comparison of actual accomplishments to planned goals for the reporting period and any findings related to monitoring efforts;

(2) An explanation for variances of plus or minus 15% of planned program and/or expenditure goals, to include: identification of corrective action that will be taken to meet the planned goals and a timetable for accomplishment of the corrective action.

C. 90-Day Follow-Up Report

No later than 120 days after the grant performance expiration date, the grantee must submit a follow-up report showing results and performance as of the 90th day after the grant period, and containing the following:

(1) Final Financial Status Report SF-269A Short Form (that zeros out all unliquidated obligations); and

(2) Technical Performance Report including an updated goals chart.

D. 180-Day Follow-Up Report

No later than 210 days after the grant performance expiration date, the grantee must submit a follow-up report showing results and performance as of the 180th day after the grant period, and containing the following:

(1) Final Financial Status Report SF-269A Short Form (if not previously submitted); and

(2) For a Grant Involving Employment and Training Activities, a Final Narrative Report identifying:

(a) The total combined (directed/assisted) number of veterans placed into employment during the entire grant period;

(b) The number of veterans still employed after the 180-day follow-up period;

(c) If the veterans are still employed at the same or similar job, and if not, what are the reason(s);

(d) Whether training received was applicable to jobs held;

(e) Wages at placement and during follow-up period;

(f) An explanation regarding why those veterans placed during the grant, but not employed at the end of the follow-up period, are not so employed; and

(g) Any recommendations to improve the program.

(3) For a Grant Involving Outreach Activities, a Final Narrative identifying:

(a) Circulation data on newsletters or newspapers including number of distribution points and readership;

(b) Number of conferences held with attendance figures on each conference;

(c) Approximate number of veterans placed in employment due to outreach activities.

VII. Agency Contacts

For answers to questions or help with problems prior to the application submission deadline, please contact Cassandra Mitchell, U.S. Department of Labor, Procurement Services Center, telephone (202) 693-4570 (this is not a toll free number). Please note that in order to ensure a fair and open competition, USDOL VETS staff are not authorized to provide technical assistance to any potential grantee while this funding opportunity period is open. Individuals with hearing impairments may call (800) 670-7008 (TTY/TDD).

VIII. Other Information

Unless specifically provided in the grant agreement, DOL's acceptance of a proposal and an award of Federal funds to sponsor any program(s) does not provide a waiver of any grant requirements and/or procedures. For example, the OMB circulars require and an entity's procurement procedures must provide that all procurement transactions will be conducted, as practical, to provide open and free competition. If a proposal identifies a specific entity to provide services, the DOL award does not provide the justification or basis to sole-source the procurement, i.e., avoid competition.

Resources for the Applicant: Applicants may review “VETS’ Guide to Competitive and Discretionary Grants” located at http://www.dol.gov/vets/grants/Final_VETS_Guide-linked.pdf.

Applicants may also find these resources useful: America's Service locator http://www.servicelocator.org/ provides a directory of our Nation's One-Stop Career Centers; the National Association of Workforce Boards maintains an Internet site at http://www.nawb.org/asp/wibdir.asp that contains contact information for the State and local Workforce Investment Boards; and the home page for the Department of Labor Center for Faith-Based and Community Initiatives maintains a Web site at http://www.dol.gov/cfbci.

For Further Information Contact: For further information concerning this SGA and confirmation of receipt of a grant application, please contact Cassandra Mitchell, U.S. Department of Labor, Procurement Services Center, telephone (202) 693-4570, prior to the closing deadline and reference SGA #04-11. (This is not a toll-free number.)

Signed in Washington, DC, this 27th day of September, 2004.
Johnny A. Arnold, II,
Acting Grant Officer.

Appendices

Appendix A: Application for Federal Assistance SF 424

Appendix B: Budget Information Sheet SF 424A

Appendix C: Assurances and Certifications Signature Page

Appendix D: Recommended Technical Performance Goals Form

Appendix E: Direct Cost Descriptions for Applicants and Sub-Applicants

Appendix F: Survey on Ensuring Equal Opportunity for Applicants

Appendix G: The Glossary of Terms

BILLING CODE 4510-79-P

>

>

>

>

>

>

>

>

>

>

>

BILLING CODE 4510-79-C

Appendix G—Glossary of Terms

Adequate Employment—See Unsubsidized Employment.

Administrative Costs—Administrative costs shall consist of all direct and indirect costs associated with the supervision and management of the program. These costs shall include the administrative costs, both direct and indirect, of sub-recipients and contractors.

Adult Basic Education—Education for adults whose inability to speak, read, or write the English language or to effectively reason mathematically, constitutes a substantial impairment of their ability to get or retain employment commensurate with their real ability, which is designed to help eliminate such inability and raise the level, of education of such individuals with a view to making them less likely to become dependent on others, to improve their ability to benefit from occupational training and otherwise increase their opportunities for more productive and profitable employment, and to make them better able to meet their adult responsibilities.

Ancillary Services—Employment and training related activities other than core training that may enhance a participant's employability.

Apprenticeship Training—A formal occupational training program that combines on-the-job training and related instruction and in which workers learn the practical and conceptual skills required for a skilled occupation, craft, or trade. It may be registered or unregistered.

Assessment/Intake—A process for screening individual applicants for program eligibility making the level of need determinations; making an initial determination what services or programs can best benefit the applicants; providing information about services, program eligibility, and the availability of those services, and the routing or selecting individual applicants for particular service delivery or program participation.

Assisted Placements Into Unsubsidized Employment—Assisted placements into unsubsidized employment should be recorded where the definition for placement with unsubsidized employment above is met, but the placement was arranged by an agency to which the homeless veteran was referred to.

Average Hourly Wage at Placement—The average hourly wage at placement is the average hourly wage rates at placement of all assisted placements plus direct placements.

Assurance and Certifications—The act of signifying intent to comply with applicable federal and State laws and regulations as a condition for receiving and expanding USDOL grant funds.

Barriers to Employment—Characteristics that may hinder an individual's hiring promotion or participation in the labor force. Identification of these barriers will vary by location and labor market. Some examples of individuals who may face barriers to employment include: Single parents, women, displaced homemakers, youth, public assistance recipients, older workers, substance abusers, teenage parents, certain veterans, ethnic minorities, and those with limited English speaking ability or a criminal record or with a lack of education, work experience, credential, child care arrangements, transportation or alternative working parents.

Campaign Badge Veteran—A veteran who served on active duty during the war (e.g., WWII), action (e.g., Korea, Vietnam), in a campaign, or an expedition for which a campaign badge of an expeditionary medal has been authorized (e.g. Afganistan, Bosnia, Grenada, Haiti, Iraq, Panama, Southeast Asia, (Iraq and Afghanistan), and Somalia, etc.).

Case Management—A client centered approach in the delivery of intensive services, designed to prepare and coordinate comprehensive employment plans for participants, to assure access to the necessary training and supportive services, and to provide support during program participation and after job placement.

Case Manager—One who coordinates, facilitates or provides direct services to a client or trainee from application through placement, post placement follow-up, or other case closing, exclusively, through periodic contact and the provision of appropriate assistance.

Classroom Training—Any training of the type normally conducted in an institutional setting, including vocational education, which is designed to provide individuals with the technical skills and information required to perform a specific job or group of jobs. It may also include training designed to enhance the employability of individuals by upgrading basic skills, throughout the provision of courses such as remedial education, training in the primary language of persons with limited English language proficiency, or English as a second language training.

Close Out—Grant close out is the process by which the Federal grantor agency (in the case of VETS grants, Department of Labor) determines that all applicable administrative actions and all required work of the grant have been completed by the grantee and the grantor.

Cognizant Federal Agency—The Federal agency that is assigned audit or indirect cost rate approval responsibility for a particular recipient organization by the Office of Management and Budget (OMB Circular A-87 and A-102 [20 CFR, Part 97]).

Community Based Organization—Means a private non-profit organization that is representative of a community or a significant segment of a community and that has demonstrated expertise and effectiveness in the field of workforce investment. Faith-Based organizations are considered a subset.

Cost per Placement—The cost per placement into unsubsidized employment is obtained by dividing the total funds expended by the total of direct placements plus assisted placements.

Counseling—A form of assistance which provides guidance in the development of a participant's vocational goals and the means to achieve those goals; and/or assist a participant with the solution to one or more individual problems which may pose a barrier(s) to sustained employment.

Counselor—(Employment/Vocational): A trained and qualified professional authorized to provide direct assistance (beyond advising and informing) through planning, testing, training and otherwise readying an individual for sustained employment.

Customized Training—A training program designed to meet the special requirements of an employer who has entered into an agreement with a Service Delivery Area to hire individuals who are trained to the employer's specifications. The training may occur at the employer's site or may be provided by a training vendor able to meet the employer's requirements. Such training usually requires a commitment from the employer to hire a specified number of trainees who satisfactorily complete the training.

Direct Placements Into Unsubsidized Employment—A direct placement into unsubsidized employment must be a placement made directly by staff with an established employer who covers all employment costs for 20 or more hours per week at or above the minimum wage. Day labor and other very short-term placements should not be recorded as placements into unsubsidized employment.

Disabled Veteran—A veteran who is entitled to compensation under laws administered by the Veterans Administration; or an individual who was medically discharged or otherwise released from active duty, due to service-connected disability.

Disallowed Costs—Disallowed costs are those charges to a grant that the grantor agency (or its representative) determines to be unallowable in accordance with the applicable Federal Cost Principles or other conditions in the grant.

Disabled Veterans' Outreach Program (DVOP)—A program of Federal assistance through grants to States to staff and support in accordance with 38 U.S.C. 4103A, appointed to perform a number of duties chief among which are direct employer contact, particularly with Federal contractors, Federal employers using individualized job development techniques, and with veterans (particularly with disabled veterans) using a case management approach to client-centered services.

Economically Disadvantaged—An individual who (a) receives, or is a member of a family which receives, cash welfare payments under a Federal, State, or local welfare program; (b) has, or is a member of a family which has, received a total family income for the six-month period prior to application for the program involved (exclusive of unemployment compensation, child support payments, and welfare payments) which, in relation to family size, was not in excess of the higher of (i) the official poverty line (as defined by the Office of Management and Budget, and revised annually in accordance with section 673 (2) of the Omnibus Budget Reconciliation Act of 1981 (42 U.S.C. 9902(2)), or (ii) 70 percent of the lower living standard income level; (c) is receiving (or has been determined within the 6-month period prior to the application for program involved to be eligible to receive) food stamps pursuant to the Food Stamp Act of 1977; (d) qualifies as a homeless individual under section 103 of the Stewart B. McKinney Homeless Assistance Act; (e) is a foster child on behalf of whom State or local government payments are made; or (f) in cases permitted by regulations of the Secretary, is an individual with a disability whose income meets the requirements of clause (a) or (b), but who is a member of a family whose income does not meet such requirements.

Eligible—Meeting the minimum requisite qualifications to be considered for the provision of services or entry into a position under a funded program or as required by law.

Employability Development Services (EDS)—This includes services and activities that will develop or increase the employability of the participant. Generally, this includes vocational counseling, classroom and on-the-job training, pre-employment services (such as job seeking skills and job search workshops), temporary or trial employment, sheltered work environments and other related services and activities. Planned services should assist the participant in addressing specific barriers to employment and finding a job. These activities may be provided by the applicant or by a Sub-grantee, contractor or another source such as the local Workforce Investment Act program or the DVOP personnel or LVERs. Such services are not mandatory but entries should reflect the services described in the application and the expected number of participants receiving or enrolled in such services during each quarter. Participants may be recorded more than once if they receive more than one service.

Employment Development Plan (EDP)—An individualized written plan or intervention strategy for serving an individual which, as a result of an assessment of the veteran's economic needs, vocational interests, aptitudes, work history, etc., defines a reasonable vocational or employment goal and the developmental services or steps required to reach the goal and which documents the accomplishments made by the individual.

Employment Service—The State level organization or public labor exchange system affiliated with the Department of Labor's United States Employment Service.

Enlistments—Individuals who have expressed an interest, signed up for a workshop or enrollment in the program.

Entered Employment—Applicants for service who were placed in jobs or otherwise obtained employment as a result of services used or received.

Entered Employment Rate—This is a method used to determine the percentage of participants who become employed. The percentage is calculated by dividing the number of total participants who were enrolled in the program by the number of participants who were placed or entered employment through the program.

Enrolled Veteran—Shall be synonymous with the term participant. A veteran who has been determined eligible for services at intake and who is receiving or scheduled to receive core training.

Faith-Based Organization—See “community-based organization”.

Follow-up—The tracking of clients for a period of time up to 180 days after initial placement, last referral date for services or completion of training programs to determine current status, outcome or whether to offer additional services (such as additional referral, job retention advisement, etc.).

Full-Time Equivalent (FTE)—A personnel charge to the grant equal to 2,080 hours per year.

FY—Fiscal Year. For Federal government purposes, any twelve month period beginning on October 1 and ending on September 30.

General Equivalency Diploma (GED)—A high school equivalency diploma that is obtained by passing the General Educational Diploma Equivalency Test that measures the application of skills and knowledge generally associated with four (4) years of traditional high school instruction.

Grant Officer's Technical Representative (GOTR)—An individual (usually the DVET) serving on behalf of the Grant Officer who maintains and ensures the integrity of the approved grant agreement by reviewing and making recommendations regarding technical matters not involving a change in scope, cost, or conditions.

Homeless or Homeless Individual—Includes persons who lack a fixed, regular, and adequate nighttime residence. It also includes persons whose primary nighttime residence is either supervised public or private shelter designed to provide temporary living accommodations; an institution that provides a temporary residence for individuals intended to be institutionalized; or a private place not designed for, or ordinarily used as, a regular sleeping accommodation for human beings. [Reference 42 U.S.C., Section 11302 (a)].

Indirect Cost—A cost that is incurred for a common or joint purpose benefiting more than one cost objective and that is not readily assignable to the cost objective specifically benefited.

In-kind Services—Property or services which benefit federally assisted project or program and which are contributed without charge to the grantee.

Institutional Skills Training—Training conducted in an institutional setting and designed to ensure that individuals acquire the skills, knowledge, and abilities necessary to perform a job or group of jobs in an occupation for which there is a demand.

Intake—A process for screening individual applicants for eligibility; making an initial determination whether the program can benefit the applicants; providing information about the program, its services and the availability of those services; and selecting individual applicants for participation in the program.

Intensive Services—The provision of concentrated staff services to clients who indicate the need for facilitation or interventions to secure lasting employment. The case management approach to service delivery is a viable model for successfully providing such services and obtaining the clients goals.

Job Club Activities—A form of job search assistance provided in a group setting. Usually job clubs provide instruction and assistance in completing job applications and developing resumes and focus on maximizing employment opportunities in the labor market and developing job leads. Many job clubs use telephone banks and provide group support to participants before and after they interview for job openings.

Job Development—The process of marketing a program participant to employers, including informing employers about what the participant can do and soliciting a job interview for that individual with the employer (targeted job development); and the development of one or more job openings or training opportunities with one or more employers using a variety of techniques and means of contact.

Job Placement Services—Job placement services are geared towards placing participants in jobs and may involve activities such as job search assistance, training, or job development. These services are initiated to enhance and expedite participants' transition from training to employment.

Job Search Assistance—An activity, which focuses on building practical skills and knowledge to identify and initiate employer contact and conduct successful interview with employers. Various approaches may be used to include participation in a job club, receive instruction in identifying personal strengths and goals, resume application preparation, learn interview techniques, and receive labor market information. Job search assistance is often self-service activity in which individuals obtain information about specific job openings or general jobs or occupational information.

Labor Exchange—Refers to the services provided to job seekers and employers by the State Employment Services Agencies, or other designated entities. Preparatory services to job seekers may include assessment, testing, counseling, provision of labor market information, targeted job development, resulting in job referral and follow-up with former applicants and prospective employers. Employer-oriented services may include accepting job orders, screening applicants, referring qualified applicants and providing follow-up to foster job retention and develop additional job openings or training opportunities.

Labor Exchange Delivery System (LEDS)—Describes the system of matching jobs and training opportunities with applicants operating with Federal employment and job training funds.

Labor Force—The sum of all civilians classified as employed and unemployed and members of the Armed Forces stationed in the United States. [Bureau of Labor Statistics Bulletin 2175].

Labor Market Area—An economically integrated geographic area within which individuals can reside and find employment within a reasonable distance or can readily change employment without changing their place of residence.

Literacy and Bilingual Training—See Adult Basic Education.

Local Veterans' Employment Representative (LVER) Program—A program of Federal assistance through grants to States to staff in accordance with 38 U.S.C. 4104 to perform a number of duties, chief among which are the provision of intensive (case management) services to targeted eligible veterans with emphasis on VA, VR&E, and to functionally supervise without necessarily exercising line supervisor authority over the provision of services to veterans by SDP staff.

Minimum Economic Need—The level of wages paid to a program participant that will enable that participant to become economically self-sufficient.

Minority Veterans—For the purposes of the HVRP and VWIP programs, veterans who are Workforce Investment Act (WIA) eligible and are members of the following ethnic categories: African American, Hispanic, American Indian or Alaskan Native, Asian or Pacific Islander.

National Veterans' Training Institute (NVTI)—An agency contracted with USDOL/VETS to develop and provide skills development and enhancement training to individuals who are determined by the Assistant Secretary for Veterans' Employment and Training and who deliver or monitor the provision of employment and training services to veterans (38 U.S.C. 4109).

Number Retaining Job for 90 Days—To be counted as retaining a job for 90 days, continuous employment with one or more employers for at least 90 days must be verified and the definition for either direct placement or assisted placement into unsubsidized employment above is met. This allows clients who have moved into a position with a different employer to be recorded as retaining the job for 90 days as long as the client has been steadily employed for that length of time.

Number Retaining Job for 180 Days—To be counted as retaining a job for 180 days, continuous employment with one or more employers for at least 180 days must be verified, and the definition for either placement or assisted placement into unsubsidized employment above is met. This allows clients who have moved into a position with a different employer to be recorded as retaining the job for 180 days as long as the client has been steadily employed for that length of time.

Occupational Skills Training—Includes both (1) vocational education which is designed to provide individuals with the technical skills and information required to perform a specific job or group of jobs, and (2) on-the-job training.

Offender—Any adult or juvenile who has been subject to any stage of the criminal justice process for whom services under this program may be beneficial or who requires assistance in overcoming artificial barriers to employment resulting from a record of arrest or conviction.

On-the-Job Training (OJT)—Means training by an employer that is provided to a paid participant while engaged in productive work in a job that: (a) Provides knowledge or skill essential to the full and adequate performance of the job; (b) provides reimbursement to the employer of up to 50 percent of the wage rate of the participant, for the extraordinary costs of providing the training and additional supervision related to the participant is being trained, taking into account the content of the training, the prior work experience of the participant, and the service strategy of the participant, as appropriate. Usually in the OJT agreement, there is a promise on the part of the employer to hire the trainee upon successful completion of the training.

On-Site Industry-Specific Training—This is training which is specifically tailored to the needs of a particular employer and/or industry. Participants may be trained according to specifications developed by an employer for an occupation or group of occupations at a job site. Such training is usually presented to a group of participants in an environment or job site representative of the actual job/occupation, and there is often an obligation on the part of the employer to hire a certain number of participants who successfully complete the training.

Outreach—An active effort by program staff to encourage individuals in the designated service delivery area to avail themselves of program services.

Outside Funds—Resources pledged to the grant program that have a quantified dollar value. Such resources may include training funds from programs such as WIA Title I that are put aside for the exclusive use by participants enrolled in a program. Outside funds do not include in-kind services.

Participant—Means an individual who has been determined to be eligible to participate in and who is receiving services (except follow-up services) under the program. Participation shall be deemed to commence on the first day, following determination of eligibility, on which the individual began receiving subsidized employment, training, or other services provided under the program. An individual who receives only outreach and/or intake assessment services does not meet this definition.

Participants Enrolled—A client should be recorded as having been enrolled when an intake form has been completed, and services, referral, and/or employment has been received through the program. This should be an unduplicated count over the year, i.e., each participant is recorded only once, regardless of the number of times she or he receives assistance.

Participants Services—This cost includes supportive, training, or social rehabilitation services, which will assist in stabilizing the participant. This category should reflect all costs other than administrative.

Placed Into Transitional or Permanent Housing—A placement into transitional or permanent housing should be recorded when a veteran served by the program upgrades his/her housing situation during the reporting period from shelter/streets to transitional housing or permanent housing or from transitional housing to permanent housing. Placements resulting from referrals by staff shall be counted. This item is however an unduplicated count over the year, except that a participant may be counted once upon entering transitional housing and again upon obtaining permanent housing.

Placement—The act of securing unsubsidized employment for or by a participant.

Placement Rate—This is a method used to determine the percentage of participants who become employed. The figure is calculated by dividing the number of total participants who were registered for services or enrolled in the program by the number of applicants or program participants who were placed or otherwise entered employment.

Pre-apprenticeship Training—Any training designed to increase or upgrade specific academic, or cognitive, or physical skills required as a prerequisite for entry into a specific trade or occupation.

Pre-enrollment Assessment—The process of determining the employability and training needs of individuals before enrolling them into the program. Individual factors usually addressed during pre-enrollment assessment include: an evaluation and/or measurement of vocational interests and aptitudes, present abilities, previous education and work experience, income requirements, and personal circumstances.

Preference—The application of priorities in the consideration and selection through appointment or assignment of staff to funded positions, or in the provision of direct services and order of referral to listed openings in the order designated by statute regulation, and grant agreement.

Program Resources—Includes the total of both program or grant and outside funds.

Program Year (PY)—The 12-month period beginning July 1 in the fiscal year for which the appropriation is made, and ending on the following June 30.

Qualified—An individual who has been determined to possess the requisite knowledge, skills, and abilities for positions within the context of the selection process used to identify and rank persons possessing those attributes.

Rate of Placement Into Unsubsidized Employment—The rate of placement into unsubsidized employment is obtained by dividing the number placed into unsubsidized employment, plus the number of assisted placements into unsubsidized employment by the number of clients enrolled.

Recently Separated Veteran—Refers to an individual who applies for program participation or assistance within 48 months of separation from active U.S. military service [29 U.S.C. 1503 (27) (c)].

Remedial Education—Education instruction, particularly in basic skills, to raise an individual's general competency level in order to succeed in vocational education or skill training programs, or employment.

Service Connected Disabled—Refers to (1) a veteran who is entitled to compensation under laws administered by the Department of Veterans' Affairs, or (2) an individual who was discharged or released from active duty because of a service-connected disability (38 U.S.C. 4211 (3); 29 U.S.C., Chapter 19, section 1503 (27) (C)).

Service Delivery Point (SDP)—Includes offices of the public employment delivery system operated directly or by contract with the State Workforce Agency as grantee within a State and may include One “Stop Career Centers, local employment service offices, and any satellite or itinerant offices at which labor exchange services are available.

Solicitation for Grant Applications (SGA)—A document which provides the requirements and instructions for the submission by eligible applicants identified in the document's text of requests for Federal domestic assistance (funds) for one or more programs or grants-in-aid.

State Workforce Agency (SWA)—The State level organization, as affiliated with the former United States Employment Service.

Subgrant—An award of financial assistance in the form of money, or property in lieu of money, made under a grant by a grantee to an eligible subgrantee.

Subgrantee—The government or other legal entity to which a subgrant is awarded and which is accountable to the grantee for the use of the funds provided.

Suitable Employment—See “Unsubsidized Employment”.

Substance Abuser—An individual dependent on alcohol or drugs, especially narcotics, whose dependency constitutes or results in a substantial barrier to employment.

Supportive Services—Means services which are necessary to enable an individual eligible for training, but who cannot afford to pay for such services, to participate in a training program funded under the grant. Such supportive services may include transportation, health care, financial assistance (except as a post-termination service), drug and alcohol abuse counseling and referral, individual and family counseling, special services and materials for individuals with disabilities, job coaches, child care and dependent care, temporary shelter, financial counseling, and other reasonable expenses required for participation in the training program and may be provided in-kind or through cash assistance.

Targeted Job Development—The identification and marketing of a group of qualified applicants with similar occupations or employment barriers requiring personal visitation/phone contact with those employers likely to employ these individuals.

Total Planned Expenditures—Identified forecasted financial needs to accomplish programmatic objectives broken down into fiscal quarters.

Unsubsidized Employment—Employment not financed from funds provided under the grant. In the grant program the term “adequate” or “suitable” employment is also used to mean placement in unsubsidized employment which pays an income adequate to accommodate the participants' minimum economic needs.

Upgrading or Retraining—Training given to an individual who needs such training to advance above an entry level or dead-end position. This training shall include assisting veterans in acquiring needed State certification to be employed in the same field as they were trained in the military (i.e., Commercial Truck Driving License (CDL), Emergency Medical Technician (EMT), Airframe & Power Plant (A&P), Teaching Certificate, etc.).

Veteran—An individual who served in the United States active military, naval, or air service, and who was discharged or released there from under conditions other than dishonorable (29 U.S.C. Chapter 19, section 1503 (27) (A) [for WIA, Section 168 (VWIP) and WIA, Title I training/services]).

Veterans' Workforce Investment Program (VWIP)—Competitively awarded employment and training grants to meet the needs of veterans with significant barriers to employment; with service-connected disabilities; who served on active duty in the armed forces during a campaign or expedition for which a campaign badge has been authorized; and recently separated veterans. The U.S. Department of Labor, Veterans' Employment and Training Service awards VWIP grants as authorized under the Workforce Investment Act (WIA), Section 168.

Vocational Exploration Training—Through assessments such as interest inventories and/or counseling, a process of identifying occupations or occupational areas in which a person may find satisfaction and potential, and for which his or her aptitudes and other qualifications may be appropriate.

Vocational Guidance—The provision of information, suggestions, and advice through discussion with individuals who are considering a geographical or vocational choice or change, relating to their career decision.

Wartime Veteran—See “campaign veteran above.”

Welfare and/or Public Assistance Recipient—An individual who, during the course of the program year, receives or is a member of a family who receives cash welfare or public assistance payments under a Federal, State, or local welfare program.

Workforce Investment Act (WIA)—The purpose of this Act is to establish programs to prepare youth and unskilled adults for entry into the labor force and to afford job training to those economically disadvantaged individuals and other individuals, including veterans, who face serious barriers to employment and who are in need of such training to obtain prospective employment. The Act requires the Assistant Secretary for Veterans' Employment and Training to consult with the Secretary of the Department of Veterans Affairs to ensure that programs funded under VWIP of this Act meet the employment and training needs of service-connected disabled, Campaign, and recently separated veterans and are coordinated, to the maximum extent feasible, with related programs and activities.

Work Experience—A temporary activity (six months or less) which provides an individual with the opportunity to acquire the skills and knowledge necessary to perform a job, including appropriate work habits and behaviors, and which may be combined with classroom or other training. When wages are paid to a participant on work experience and when such wage are wholly paid for under WIA, the participant may not receive this training under a private, for profit employer.

Youth—An individual between 20 and 24 years of age.

[FR Doc. 04-22060 Filed 9-30-04; 8:45 am]

BILLING CODE 4510-79-P